ENVIRONMENTAL PROTECTION AGENCY

[FRL-7516-7]

Availability of “Allocation of Fiscal Year 2003 Operator Training Grants”

AGENCY: Environmental Protection Agency (EPA).

ACTION: Notice of document availability.

SUMMARY: EPA is announcing availability of a memorandum entitled “Allocation of Fiscal Year 2003 Operator Training Grants” issued on June 6, 2003. This memorandum provides National guidance for the allocation of funds under section 104(g)(1) of the Clean Water Act. Each grant recipient will receive a copy of this document from EPA.

ADDRESSES: Municipal Assistance Branch, (4204-M), U.S. EPA, 1200 Pennsylvania Avenue, NW., Washington, DC 20460.

FOR FURTHER INFORMATION CONTACT: Gary Hudiburgh. (202) 564-0626 or hudiburgh.gary@epa.gov.

SUPPLEMENTARY INFORMATION: The subject memorandum may be viewed and downloaded from EPA's home page, http://www.epa.gov/owm/mab/owm0321.pdf.

Dated: June 13, 2003.
Jane S. Moore,
Acting Director, Office of Wastewater Management.

[FR Doc. 03-15765 Filed 6-20-03; 8:45 am]

BILLING CODE 6560-50-P